DEPARTMENT OF ENERGY

Federal Energy Regulatory Commission

[Project No. 14876-001]

Western Minnesota Municipal Power Agency; Notice of Surrender of Preliminary Permit

Take notice that Western Minnesota Municipal Power Agency, permittee for the proposed Gregory County Pumped Storage Project, has requested that its preliminary permit be terminated. The permit was issued on September 7, 2018,¹ granted an extension on August 18, 2021,² and would have expired on August 31, 2025. The project would have been located at the U.S. Army Corps of Engineers' Lake Francis Case on the Missouri River in Gregory and Charles Mix Counties, South Dakota.

¹ 164 FERC ¶ 62,133 (2018).

² 176 FERC ¶ 62,085 (2021).

The preliminary permit for Project No. 14876 will remain in effect until the close of business, June 30, 2023. But, if the Commission is closed on this day, then the permit remains in effect until the close of business on the next day in which the Commission is open.³ New applications for this site may not be submitted until after the permit surrender is effective.

³ 18 CFR 385.2007(a)(2) (2022).

Dated: May 31, 2023.
Kimberly D. Bose,
Secretary.

[FR Doc. 2023-12081 Filed 6-5-23; 8:45 am]

BILLING CODE 6717-01-P